DEPARTMENT OF HOMELAND SECURITY

Federal Emergency Management Agency

44 CFR Part 67

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Branch, Mitigation Directorate, Federal Emergency Management Agency, 500 C Street, SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Mitigation Division Director of FEMA has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.114 are amended as follows:

Flooding source(s) | Location of referenced elevation | * Elevation in feet (NGVD) + Elevation in feet (NAVD) # Depth in feet above ground Modified | Communities affected
Pickens County, South Carolina and Incorporated Areas Docket No.: FEMA-B-7463
Adams Creek | At the confluence of Oolenoy River | +940 | Pickens County (Unincorporated Areas).
| Just Upstream of Anderson Circle | +971
Betsy Akin Branch | At the confluence with Lake Keowee | +800 | Pickens County (Unincorporated Areas).
| Approximately 1,000 feet upstream of the confluence with Lake Keowee | + 808
Brushy Creek | Approximately 2,665 feet downstream of Sheriff Mill Road | +859 | Pickens County (Unincorporated Areas), City of Easley.
| Approximately 550 fee upstream of Anzio Street | +982
Burdine Creek | At the confluence with Georges Creek | +863 | Pickens County (Unincorporated Areas).
| Approximately 2,790 feet downstream of Dacusville Hwy | +1,006
Burdine Creek Tributary | At the confluence with Burdin Creek | +1,006 | Pickens County (Unincorporated Areas).
| Approximately 80 feet downstream of Holly Bush Road | +1.010
Burgess Creek | At the confluence with Weaver Creek | +944 | Pickens County (Unincorporated Areas).
| Approximately 1,810 feet downstream of Cricket Drive | +959
Camp Creek | At the confluence of Twelvemile Creek | +725 | Pickens County (Unincorporated Areas), Town of Sixmile.
| Approximately 900 feet southeast of the intersection of Elizabeth Lane and South Main Street | +997
Cannon Creek | At the confluence with Twelvemile Creek | +882 | Pickens County (Unincorporated Areas).
| Approximately 200 feet upstream of the confluence of Gregory Creek | +891
Carmel Creek | Approximately 250 feet downstream of Joyce Road | +825 | Pickens County (Unincorporated Areas).
| Approximately 3,620 feet upstream of Wyatt Stewart Road | +957
Carpenter Creek | At the confluence with South Saluda River | +889 | Pickens County (Unincorporated Areas).
| Approximately 1,700 feet downstream of Dalton Road | +1,001
Carrick Creek | At the confluence of Oolenoy River | +956 | Pickens County (Unincorporated Areas).
| Approximately 210 feet upstream of Table Rock Road | +959
Crow Creek | At the confluence of Lake Keowee | +800 | Pickens County (Unincorporated Areas).
| Approximately 2,510 feet upstream of Little Eastatoee Road | +871
Doddies Creek | At the confluence with Machine Creek | +863 | Pickens County (Unincorporated Areas).
| Approximately 290 feet upstream of Dacusville Hwy | +1,059
Eastatoe Creek | At the confluence with Lake Keowee | +800 | Pickens County (Unincorporated Areas).
| Approximately 340 feet upstream of Lesesne Road | +1,004
Eighteenmile Creek | Approximately 1,550 feet downstream of the confluence with Eighteenmile Creek Tributary 5 | +714 | Pickens County (Unincorporated Areas), City of Clemson, City of Easley.
| Approximately 2,020 feet upstream of Ross Avenue | +989
Tributary A | Approximately 70 feet upstream of Shaftsbury Road | +795 | City of Clemson.
| Approximately 520 feet upstream of Shaftsbury Road | +808
Tributary 1 | Approximately 50 feet upstream of Prince Rainer Road | +798 | City of Clemson.
| Approximately 755 feet upstream of Prince Rainer Road | +812
Tributary 2 | Approximately 70 feet upstream of Clarendon Drive | +745 | City of Clemson.
| Approximately 1,640 feet upstream of the confluence with Eighteenmile Creek Tributary 6 | +782
Tributary 3 | At the confluence with Eighteenmile Creek Tributary 9 | +752 | Pickens County (Unincorporated Areas).
| Approximately 1,710 feet upstream of the confluence with Eighteenmile Creek Tributary 9 | +776
Tributary 4 | At the confluence with Eighteenmile Creek | +730 | Pickens County (Unincorporated Area).
| Approximately 1,000 feet upstream of Calhoun Memorial Hwy | +745
Tributary 5 | At the confluence with Eighteenmile Creek | +716 | Pickens County (Unincorporated Area), City of Clemson.
| Approximately 1, 890 feet Southwest of the intersection of Moser Trial and Old Shirley Road | +787
Tributary 6 | At the confluence with Eighteenmile Creek Tributary 2 | +757 | Pickens County (Unincorporated Area), City of Clemson.
| Approximately 280 feet upstream of Azalea Drive | +775
Tributary 7 | At the confluence with Eighteenmile Creek | +719 | Pickens County (Unincorporated Area).
| Approximately 7,585 feet upstream of the confluence with Eighteenmile Creek Tributary 19 | +800
Tributary 8 | At the confluence with Eighteenmile Creek Tributary 2 | +751 | City of Clemson.
| Approximately 1,595 feet upstream of the confluence with Eighteenmile Creek Tributary 2 | +769
Tributary 9 | At the confluence with Eighteenmile Creek | +737 | Pickens County (Unincorporated Area), City of Clemson, Town of Central.
| Approximately 1,510 feet upstream of Fernway Drive | +854
Tributary 10 | At the confluence with Eighteenmile Creek Tributary 2 | +751 | City of Clemson.
| Approximately 1,040 feet upstream of the confluence with Eighteenmile Creek Tributary 2 | +764
Tributary 11 | At the confluence with Eighteenmile Creek | +747 | Pickens County (Unincorporated Area).
| Approximately 5,990 feet upstream of Mill Pine Road | +818
Tributary 12 | At the confluence with Eighteenmile Creek | +809 | Pickens County (Unincorporated Area), Town of Liberty.
| Approximately 920 feet upstream of the Railroad crossing | +961
Tributary 13 | At the confluence with Eighteenmile Creek | +842 | Pickens County (Unincorporated Area).
| Approximately 3,970 feet upstream of Calhoun Memorial Hwy | +865
Tributary 14 | At the confluence with Eighteenmile Creek | +874 | Pickens County (Unincorporated Area).
| Approximately 3,490 feet upstream of Smith Grove Road | +904
Tributary 15 | At the confluence with Eighteenmile Creek | +885 | Pickens County (Unincorporated Areas).
| Approximately 1,230 feet upstream of Smith Grove Road | +914
Tributary 16 | At the confluence with Eighteenmile Creek (Near Easley) | +960 | Pickens County (Unincorporated Areas), City of Easley.
| Approximately 880 feet upstream of the confluence with Eighteenmile Creek | +998
Tributary 17 | At the confluence with Eighteenmile Creek (Near Easley) | +959 | Pickens County (Unincorporated Areas), City of Easley.
| Approximately 130 feet upstream of Cherokee Road | +1,017
Tributary 18 | At the confluence with Eighteenmile Creek | +735 | Pickens County (Unincorporated Areas).
| Approximately 1,210 feet upstream of the confluence with Eighteenmile Creek | +752
Tributary 19 | At the confluence with Eighteenmile Creek | +720 | Pickens County (Unincorporated Areas).
| Approximately 1,940 feet upstream of the confluence with Eighteenmile Creek Tributary 7 | +727
Fifteenmile Creek | At the confluence of Eighteenmile Creek | +747 | Pickens County (Unincorporated Areas).
| Approximately 2,060 feet upstream of Pine Thicket Road | +829
Tributary 1 | At the confluence with Fifteenmile Creek | +781 | Pickens County (Unincorporated Areas).
| Approximately 180 feet upstream of Garvin Road | +802
Tributary 2 | At the confluence with Fifteenmile Creek | +788 | Pickens County (Unincorporated Areas).
| Approximately 240 feet upstream of Pine Ticket Road | +804
Tributary 3 | At the confluence with Fifteenmile Creek | +755 | Pickens County (Unincorporated Areas).
| Approximately 1,420 feet upstream of the confluence with Fifteenmile Creek | +773
Georges Creek | At the confluence with South Saluda River | +796 | Pickens County (Unincorporated Areas), City of Easley.
| Approximately 1,025 feet upstream of Hamilton Street | +1,006
Tributary 1 | At the confluence with Georges Creek | +819 | Pickens County (Unincorporated Areas), City of Easley.
| Approximately 2,140 feet upstream of Cardinal Drive | +868
Golden Creek | At the confluence with Twelvemile Creek | +801 | Pickens County (Unincorporated Areas), Town of Liberty, Town of Norris.
| Approximately 1,380 feet downstream of Enon Church Road | +917
Tributary 1 | At the confluence with Golden Creek | +847 | Pickens County (Unincorporated Areas), Town of Liberty.
| Approximately 2,140 feet upstream of the confluence with Golden Creek | +910
Gowens Creek | At the confluence of Oolenoy River | +923 | Pickens County (Unincorporated Areas).
| Approximately 200 feet Downstream of Table Rock Road | +935
Gregory Creek | At the confluence with Cannon Creek | +891 | Pickens County (Unincorporated Areas).
| Approximately 1,410 feet upstream of the confluence with Gregory Creek | +944
Hagood Branch | At the confluence with Twelvemile Creek | +931 | Pickens County (Unincorporated Areas).
| Approximately 3,090 feet upstream of Hagood Mill Road | +984
Hamilton Creek | At the confluence with Georges Creek | +828 | Pickens County (Unincorporated Areas), City of Easley.
| Approximately 885 feet upstream of Pace Valley Road | +937
Keowee River | Approximately 3.4 miles downstream of Keowee Dam | +665 | Pickens County (Unincorporated Areas).
| Just downstream of Keowee Dam | +675
Lake Hartwell |  | +665 | Pickens County (Unincorporated Areas), City of Clemson.
Tributary 2 | At the confluence with Lake Hartwell | +665 | Pickens County (Unincorporated Areas).
| Approximately 1,940 feet upstream of West Queen Street | +671
Lake Keowee |  | +800 | Pickens County (Unincorporated Areas).
Little Crow Creek | At the confluence with Lake Keowee | +800 | Pickens County (Unincorporated Areas).
| Approximately 990 feet upstream of Little Crow Creek Road | +832
Little Crow Creek Tributary | At the confluence with Little Crow Creek | +822 | Pickens County (Unincorporated Areas).
| Approximately 1,620 feet upstream of Mile Creek Road | +896
Little Eastatoe Creek | At the confluence with Eastatoe Creek | +805 | Pickens County (Unincorporated Areas).
| Approximately 1,020 feet upstream of the confluence with Little Eastatoe Creek Tributary | +1,015
Little Eastatoe Creek Tributary | At the confluence with Little Eastatoe Creek | +1,013 | Pickens County (Unincorporated Areas).
| Approximately 550 feet upstream of Sunset Community Way | +1,038
Tributary 2 | At the confluence with Little Eastatoe Creek Tributary | +1,019 | Pickens County (Unincorporated Areas).
| Approximately 540 feet upstream of Sequoyah Way | +1,039
Little Georges Creek | At the confluence with Georges Creek | +819 | Pickens County (Unincorporated Areas).
| Approximately 370 feet upstream of Looper Road | +959
Machine Creek | At the confluence with South Saluda River | +863 | Pickens County (Unincorporated Areas).
| Approximately 340 feet upstream of Childress Road | +1,053
Mad Dog Branch | At the confluence with Georges Creek | +937 | Pickens County (Unincorporated Areas), City of Easley.
| Approximately 310 feet upstream of Turpin Drive | +1,018
Middle Branch | Approximately 930 feet downstream of Meadow Ridge Road | +872 | Pickens County (Unincorporated Areas), City of Easley.
| Approximately 170 feet upstream of Calhoun Memorial Highway
Tributary 6A | Approximately 210 feet downstream of Mossie Smith Road | +889 | Pickens County (Unincorporated Areas), City of Easley.
| Approximately 575 feet downstream of Rose Ann Court | +904
Tributary 6B | At the confluence with Middle Branch Tributary 6A | +892 | Pickens County (Unincorporated Areas), City of Easley.
| Approximately 345 feet upstream of Canvasback Way | +904
Middle Fork Twelvemile Creek | At the confluence with Twelvemile Creek | +911 | Pickens County (Unincorporated Areas).
| Approximately 140 feet downstream of Phoenix Road | +1,046
Tributary 1 | At the confluence with Middle Fork Twelvemile Creek | +932 | Pickens County (Unincorporated Areas).
| Approximately 660 feet upstream of Meece Mill Road | +957
Tributary 2 | At the confluence with Middle Fork Twelvemile Creek | +932 | Pickens County (Unincorporated Areas).
| Approximately 340 feet upstream of Meece Mill Road | +935
Mill Creek | At the confluence with Oolenoy River | +968 | Pickens County (Unincorporated Areas).
| Approximately 500 feet downstream of Table Rock Road | +979
Mill Shoals Creek | At the confluence with Middle Fork Twelvemile Creek | +950 | Pickens County (Unincorporated Areas).
| Approximately 3,010 feet upstream of the confluence with Middle Fork Twelvemile Creek | +957
Molly Branch | At the confluence with Adams Creek | +950 | Pickens County (Unincorporated Areas).
| Approximately 4,510 feet upstream of the confluence with Adams Creek | +982
Oolenoy River | At the confluence with South Saluda River | +927 | Pickens County (Unincorporated Areas).
| Approximately 200 feet upstream of Lake Road | +948
Tributary 2 | At the confluence with Oolenoy River | +946 | Pickens County (Unincorporated Areas).
| Approximately 490 feet upstream of Table Rock Road | +955
Tributary 3 | At the confluence with Oolenoy River | +968 | Pickens County (Unincorporated Areas).
| Approximately 350 feet upstream of Table Rock Road | +976
Tributary 5 | At the confluence with Oolenoy River | +997 | Pickens County (Unincorporated Areas).
| Approximately 1,400 feet upstream of Table Rock Road | +1,046
Peters Creek | At the confluence with South Saluda River | +893 | Pickens County (Unincorporated Areas).
| Approximately 1,930 upstream of Freeman Bridge Road | +902
Praters Creek | At the confluence with Twelvemile Creek | +857 | Pickens County (Unincorporated Areas).
| Approximately 1,670 feet downstream of Morningside Road | +886
Raven Branch | At the confluence of Wolf River | +1,004 | Pickens County (Unincorporated Areas).
| Approximately 570 feet downstream of Boundary Drive | +1,023
Reedy Cove Creek | At the confluence with Eastatoe Creek | +962 | Pickens County (Unincorporated Areas).
| Approximately 350 feet upstream of Holcombe Hollow | +986
Rices Creek | At the confluence with Twelvemile Creek | +841 | Pickens County (Unincorporated Areas).
| Approximately 130 feet upstream of Robert P. Jeannes Road | +1,018
Tributary 1 | At the confluence with Rices Creek | +945 | Pickens County (Unincorporated Areas).
| Approximately 1,170 feet upstream of Griffin Mill Road | +951
Shoal Creek | At the confluence with Twelvemile Creek | +792 | Pickens County (Unincorporated Areas).
| Approximately 2,660 feet upstream of Spur Road | +1,099
Tributary 1 | At the confluence with Shoal Creek | +896 | Pickens County (Unincorporated Areas), Town of Sixmile.
| Approximately 330 feet upstream of Liberty Hwy | +966
Shoal Creek (South Saluda River Tributary) | At the confluence with South Saluda River | +866 | Pickens County (Unincorporated Areas).
| Approximately 3,840 feet upstream of Dacusville Hwy | +990
Tributary 1 | At the confluence with Shoal Creek (South Saluda River Tributary) | +866 | Pickens County (Unincorporated Areas).
| Just spstream of Hunts Bridge Road | +942
Tributary 2 | At the confluence with Shoal Creek (South Saluda River Tributary) | +872 | Pickens County (Unincorporated Areas).
| Approximately 2,170 feet upstream of Raines Road | +904
Sixmile Creek | At the confluence with Lake Hartwell | +665 | Pickens County (Unincorporated Areas), Town of Sixmile.
| Approximately 700 feet upstream of Cedar Hill Road | +1,064
South Saluda River | At the confluence of Georges Creek | +804 | Pickens County (Unincorporated Areas).
| Approximately 1,000 feet upstream of South Saluda Road | +1,127
Tributary 1 | At the confluence of South Saluda River | +862 | Pickens County (Unincorporated Areas).
| Approximately 2,520 feet upstream of Edinburgh Lane | +884
| At the confluence of South Saluda River | +927 | Pickens County (Unincorporated Area).
| Approximately 200 feet upstream of Lake Circle | +948
Three and Twenty Creek | Approximately 4,270 feet downstream of the confluence of Three and Twenty Creek Tributary 1 | +820 | Pickens County (Unincorporated Areas).
| Approximately 900 feet downstream of Johnson Road | +868
Tributary 1 | At the confluence of Three and Twenty Creek | +827 | Pickens County (Unincorporated Areas).
| Approximately 3,200 feet upstream of Zion School Road | +860
Tributary 2 | At the confluence of Three and Twenty Creek | +828 | Pickens County (Unincorporated Areas).
| Approximately 1,355 feet upstream of Johnson Road | +879
Town Creek | Just upstream of Pumpkintown Hwy | +988 | Pickens County (Unincorporated Areas).
| Approximately 1,380 feet upstream of Ivey Hanes Road | +1,124
Tributary 1 | At the confluence Town Creek | +1,007 | Pickens County (Unincorporated Areas).
| Approximately 1,190 feet east of the intersection of Capewood Lane and Glassy Mountain Road | +1,099
Tributary 2 | At the confluence Town Creek | +1,022 | Pickens County (Unincorporated Areas).
| Approximately 1,960 feet upstream of Griffin Church Road | +1,099
Tributary 3 | At the confluence Town Creek | +1,055 | Pickens County (Unincorporated Areas).
| Approximately 1,680 feet upstream of Fox Squirrel Ridge Road | +1,060
Tributary 4 | At the confluence Town Creek | +1,029 | Pickens County (Unincorporated Areas).
| Approximately 720 feet downstream of Spring Creek Drive | +1,065
Twelvemile Creek | At the confluence with Lake Hartwell | +665 | Pickens County (Unincorporated Areas), City of Clemson.
| At Belle Shoals Road | +869
| Approximately 80 feet upstream of Log House Road | +1,019 | Pickens County (Unincorporated Areas). |  | Approximately 500 feet upstream of Hidden Valley Road | +1,061
Twelvemile Creek Tributary | At the confluence with Lake Hartwell | +665 | Pickens County (Unincorporated Areas), City of Clemson.
| At Old Central Road | +665
Tributary 4 | At the confluence with Lake Hartwell | +665 | Pickens County (Unincorporated Areas).
| Approximately 4,970 feet upstream of the confluence with Lake Hartwell | +675
Tributary 6 | At the confluence with Lake Hartwell | +665 | Pickens County (Unincorporated Areas).
| Approximately 210 feet upstream of R.C. Edward School Road | +673
Tributary 7 | At the confluence with Lake Hartwell | +665 | Pickens County (Unincorporated Areas).
| Approximately 930 feet upstream of the confluence with Lake Hartwell | +668
Tributary 9 | At the confluence with Lake Hartwell | +665 | Pickens County (Unincorporated Areas).
| Approximately 320 feet southeast of the intersection of Old Cedar Lane and South Main Street | +994
Tributary 10 | At the confluence with Lake Hartwell | +665 | Pickens County (Unincorporated Areas).
| Approximately 1,190 feet upstream of the confluence with Lake Hartwell | +669
Tributary 11 | At the confluence with Twelvemile Creek | +678 | Pickens County (Unincorporated Areas).
| Approximately 690 feet southeast of the intersection of Garvin Street and Maw Bridge Road | 960
Tributary 13 | At the confluence with Twelvemile Creek | +908 | Pickens County (Unincorporated Areas).
| Approximately 590 feet upstream of Tiger Drive | +926
Tributary 14 | At the confluence with Twelvemile Creek | +978 | Pickens County (Unincorporated Areas).
| Approximately 280 feet upstream of Tommys Trail | +1,023
Tributary 15 | At the confluence with Twelvemile Creek | +982 | Pickens County (Unincorporated Areas).
| Approximately 3,030 feet upstream of the confluence of Twelvemile Creek | +999
Weaver Creek | At the confluence with Oolenoy River | +937 | Pickens County (Unincorporated Areas).
| Approximately 2,570 feet upstream of the confluence with Burgess Creek | +950
West Fork Gregory Creek | At the confluence with Gregory Creek | +938 | Pickens County (Unincorporated Areas).
| Approximately 660 feet upstream of Windmont Road | +956
Wolf Creek | At the confluence with Twelvemile Creek | +876 | Pickens County (Unincorporated Areas), City of Pickens.
| Just Upstream of Mauldin Lake Road | +916
| Just downstream of Hideaway Hills Lane | +996 | Pickens County (Unincorporated Areas).
| Approximately 260 feet downstream of Pretty Place Drive | +1,046
Wolf Creek Tributary | At the confluence of Wolf Creek | +951 | Pickens County (Unincorporated Areas).
| Approximately 2,500 feet upstream of the confluence with Wolf Creek | +972
Woodside Branch | At the confluence with Eighteenmile Creek | +826 | Pickens County (Unincorporated Areas), Town of Liberty.
| Approximately 960 feet upstream of the confluence with Woodside Branch Tributary | +866
Woodside Branch Tributary | At the confluence with Woodside Branch | +854 | Pickens County (Unincorporated Areas), Town of Liberty.
| Approximately 2,180 feet upstream of Burn Hill Road | +882
Youngs Branch | At the confluence with Middle Fork Twelvemile Creek | +1,005 | Pickens County (Unincorporated Areas).
| Approximately 840 feet downstream of the confluence of Blacks Branch | +1,059
# Depth in feet above ground.
* National Geodetic Vertical Datum.
+ National American Vertical Datum.
ADDRESSES
Unincorporated Areas of Pickens County
Maps are available for inspection at 222 McDaniels Avenue B-2, Pickens, SC 29670-1419.
Town of Central
Maps are available for inspection at 1067 West Main Street, Central, SC 29630-0549.
City of Clemson
Maps are available for inspection at 1200-3 Tiger Boulevard, Clemson, SC 29633-1566.
City of Easley
Maps are available for inspection at 205 N 1st Street, Easley, SC 29641-0466.
Town of Liberty
Maps are available for inspection at 206 West Front Street, Liberty, SC 29657-0716.
Town of Norris
Maps are available for inspection at 100 East Jamison Street, Norris, SC 29667-0320.
City of Pickens
Maps are available for inspection at 209 Pendleton Street, Pickens, SC 29671-0127.
Town of Sixmile
Maps are available for inspection at 106 South Main Street, Six Mile, SC 29682-0429.

(Catalog of Federal Domestic Assistance No. 97.022, “Flood Insurance.”)

Dated: October 24, 2007.
David I. Maurstad,
Federal Insurance Administration of the National Flood Insurance Program, Department of Homeland Security, Federal Emergency Management Agency.

[FR Doc. E7-21538 Filed 10-31-07; 8:45 am]

BILLING CODE 9110-12-P